DEPARTMENT OF TRANSPORTATION

Federal Aviation Administration

14 CFR Part 73

[Docket No. FAA-2008-0939; Airspace Docket No. 08-ASW-7]

RIN 2120-AA66

Change of Using Agency for Restricted Area R-3807, Glencoe, LA

AGENCY: Federal Aviation Administration (FAA), DOT.

ACTION: Final rule.

SUMMARY: This action changes the using agency of R-3807, Glencoe, LA, from “USAF, Southeast Air Defense Sector, Tyndall AFB, FL,” to “Western Air Defense Sector (WADS), McChord AFB, WA.” The FAA is taking this action in response to a request from the United States Air Force (USAF) to reflect an administrative change of responsibility for the restricted area. There are no changes to the boundaries; designated altitudes; time of designation; or activities conducted within the affected restricted area.

DATES: Effective Dates: 0901 UTC, November 20, 2008.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On March 13, 2008, the USAF requested that the FAA change the using agency for R-3807 from, “USAF, Southeast Air Defense Sector, Tyndall AFB, FL,” to “Western Air Defense Sector (WADS), McChord AFB, WA.” The USAF request was based on the Southeast Air Defense Sector (SEADS) transitioning to a new mission and the WADS unit assuming responsibility for the SEADS area of responsibility, including all special use airspace within that area. Coordination between the two air defense sector airspace management offices, as well as Houston Air Route Traffic Control Center, was effected prior to this using agency change request being submitted by the USAF.

Section 73.63 of Title 14 CFR part 73 was republished in FAA Order 7400.8P, effective February 16, 2008.

The Rule

This action amends Title 14 Code of Federal Regulations (14 CFR) part 73 by revising the using agency listed for R-3807, Glencoe, LA; transferring using agency responsibility for R-3807 from “USAF, Southeast Air Defense Sector, Tyndall AFB, FL” to “Western Air Defense Sector (WADS), McChord AFB, WA.” This is an administrative change and does not affect the boundaries, designated altitudes, or activities conducted within the restricted area; therefore, notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

This rulemaking is promulgated under the authority described in Subtitle VII, Part A, Subpart I, Section 40103. Under that section, the FAA is charged with prescribing regulations to assign the use of the airspace necessary to ensure the safety of aircraft and the efficient use of airspace. This regulation is within the scope of that authority as it is amending the using agency for R-3807, Glencoe, LA.

Environmental Review

The FAA has determined that this action qualifies for a categorical exclusion under the National Environmental Policy Act in accordance with 311d., FAA Order 1050.1E, “Environmental Impacts: Policies and Procedures.” There are no extraordinary circumstances that would require additional environmental analysis.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.38 [Amended]

2. Section 73.38 is amended as follows:

* * * * *

R-3807 Glencoe, LA [Amended]

Under using agency, remove “USAF, Southeast Air Defense Sector, Tyndall AFB, FL” and insert the words “Western Air Defense Sector (WADS), McChord AFB, WA.”

* * * * *

Issued in Washington, DC, on September 4, 2008.
Edith V. Parish,
Manager, Airspace and Rules Group.

[FR Doc. E8-21522 Filed 9-15-08; 8:45 am]

BILLING CODE 4910-13-P